DEPARTMENT OF STATE

22 CFR Part 32

[Public Notice 4365]

Stolen Property Under Treaty With Mexico

AGENCY: Department of State.

ACTION: Direct final rule.

SUMMARY: This final rule removes regulations which describe the documents required when making a request for a stolen vehicle under the Convention of October 6, 1936, between the United States and Mexico for the Recovery and Return of Stolen or Embezzled Motor Vehicles, Trailers, Airplanes, or Component Parts of Any of Them. This treaty is no longer in force; and therefore, the regulations implementing this treaty are obsolete.

DATES: This rule is effective July 15, 2003, without further action, unless adverse comment is received by June 16, 2003. If adverse comment is received, the Department of State will publish a timely withdrawal of the final rule in the Federal Register.

ADDRESSES: Send comments to Mike Meszaros, Overseas Citizen Services, A/OCS, Department of State, Washington, DC 20520.

FOR FURTHER INFORMATION CONTACT: Mike Meszaros, Overseas Citizen Services, Department of State, 202-312-9750.

SUPPLEMENTARY INFORMATION: This rule removes part 32 of title 22 of the Code of Federal Regulations. Part 32 describes the documents required when making a request for the return of stolen vehicles under the Convention of October 6, 1936, between the United States and Mexico for the Recovery and Return of Stolen or Embezzled Motor Vehicles, Trailers, Airplanes, or Component Parts of Any of Them. The 1936 treaty did not describe what documents should accompany a request for a stolen vehicle. Instead the two governments agreed to similar regulations describing what documents would accompany a request for return of a stolen vehicle (see Federal Register Doc. 38-2527, filed August 29, 1938). The Convention between the United States of America and the United Mexican States for the Recovery and Return of Stolen or Embezzled Vehicles and Aircraft, signed at Washington on January 15, 1981, and entered into force on June 28, 1983, replaced the 1936 treaty. The 1981 treaty specifically describes the documents that are required in connection with a request for the return of a stolen vehicle (see Article III), and no other regulations are needed to implement the 1981 treaty. Therefore, the regulations set forth in part 32 of title 22 of the Code of Federal Regulations are obsolete and their removal is appropriate.

Regulatory Analysis and Notices

This amendment involves a foreign affairs function of the United States and, therefore, is not subject to the procedures required by 5 U.S.C. 553 and 554. It is exempt from review under Executive Order 12866 but has been reviewed internally by the Department to ensure consistency with the purposes thereof. This rule does not require analysis under the Regulatory Flexibility Act or the Unfunded Mandates Reform Act. It has been found not to be a major rule within the meaning of the Small Business Regulatory Enforcement Fairness Act of 1996. It will not have substantial direct effects on the States, the relationship between the national government and the States, or the distribution of power and responsibilities among the various levels of government. Therefore, it is determined that this rule does not have sufficient federalism implications to warrant application of the consultation provisions of Executive Orders 12372 and 13132. This rule does not impose any new reporting or recordkeeping information collection requirements under the Paperwork Reduction Act, 44 U.S.C. chapter 35.

List of Subjects in 22 CFR Part 32

Alien property, Mexico, Stolen property, Treaties, Vehicles.

Accordingly, pursuant to the President's authority under the United States Constitution to conduct the foreign relations of the United States (Article II, section 2) as exercised by the Secretary of State on a day-to-day basis under 22 U.S.C. 2656 and pursuant to the authority of 22 U.S.C. 2651a, 22 CFR chapter I, subchapter D is amended by removing part 32 as follows:

PART 32—[REMOVED]

Part 32 is removed.

Dated: May 7, 2003.
Grant S. Green, Jr.,
Under Secretary for Management, Department of State.

[FR Doc. 03-12294 Filed 5-15-03; 8:45 am]

BILLING CODE 4710-10-P